DEPARTMENT OF AGRICULTURE

Rural Utilities Service

Jackson County Lake Project

AGENCY: Rural Utilities Service, USDA.

ACTION: Notice of availability of final environmental impact statement.

SUMMARY: Notice is hereby given that the Rural Utilities Service (RUS) is issuing a Final Environmental Impact Statement (EIS) for the Jackson County Lake Project. The Final EIS was prepared pursuant to the National Environmental Policy Act of 1969 (NEPA) (U.S.C. 4231 et seq.) in accordance with the Council on Environmental Quality regulations for implementing the procedural provisions of NEPA (40 CFR parts 1500-1508) and RUS regulations (7 CFR part 1940-G). RUS invites comments on the Final EIS.

The purpose of the EIS is to evaluate the potential environmental impacts of and alternatives to the Jackson County Empowerment Zone (EZ) Community, Incorporated and Jackson County Water Association's (JCWA) applications for financial assistance to provide water supply for the residents of Jackson County and parts of surrounding counties. A secondary purpose of the proposal is to provide recreational opportunities. The project, known as the Jackson County Lake Project, proposes to construct a roller-compacted concrete dam to create a reservoir within Jackson County, Kentucky, and to construct a raw water transmission main from the proposed reservoir to the JCWA Treatment Plant. A 300-foot buffer zone surrounding the reservoir horizontally from the normal pool level has been proposed to protect the water quality of the reservoir by restricting development and certain land uses in this area. Also included in the proposal is the construction of a water intake structure and a pump house to pump water out of the reservoir. Proposed recreational development around the reservoir may include a boat ramp, boat dock, public beach, hiking trails, picnic areas, and a primitive campground.

DATES: Written comments on this Final EIS will be accepted on or before July 2, 2001.

ADDRESSES FOR FURTHER INFORMATION: To send comments or for more information, contact: Mark S. Plank, Acting Director, USDA, Rural Utilities Service, Engineering and Environmental Staff, 1400 Independence Avenue, Mail Stop 1571, Washington, DC 20250, telephone (202) 720-1649, fax (202) 720-0820, or e-mail: mplank@rus.usda.gov. Further information can also be obtained from: Kenneth Slone, State Director, USDA, Rural Development State Office, 771 Corporate Drive, Suite 200, Lexington, KY 40503, telephone (606) 224-7300, or fax (606) 224-7340.

A copy of the Final EIS can be obtained or viewed online at http://www.usda.gov/rus/water/ees/feis-jc.htm. The files are in a portable document format (pdf); in order to review or print the document, users need to obtain a free copy of Acrobat Reader. The Acrobat Reader can be obtained from http://www.adobe.com/prodindex/acrobat/readstep.html.

Copies of the Final EIS will be available for public review during normal business hours at the following locations:

Jackson County Public Library, Courthouse Square, P.O. Box 160, McKee, KY 40447, (606) 287-8113

Natural Resources Conservation Service, U.S. Highway 421 South, McKee, KY 40447, (606) 287-8311

Jackson County Extension Service 263 U.S. Highway 421, South, P.O. Box 188, McKee, KY 40447, (606) 287-7693

Kentucky Highlands Investment Corporation, 362 Old Whitley Road, London, KY 40741, (606) 864-5175

Jackson County EZ Community, Incorporated, McCammon Ridge Road, P.O. Box 280, McKee, KY 4044, (606) 287-8395

USDA Rural Development, 771 Corporate Drive, Suite 200, Lexington, KY 40503, (606) 224-7300

SUPPLEMENTARY INFORMATION: Pursuant to Subchapter C, Part I (Empowerment Zones, Enterprise Communities and Rural Development Investment Areas) of Title XIII of the Omnibus Budget Reconciliation Act of 1993, Jackson County, Kentucky is located in an area designated as an Empowerment Zone/Enterprise Community (EZ/EC) (see 60 FR 6945, February 6, 1995). The purpose of the EZ/EC initiative is to empower rural communities and their residents to create opportunities for economic development as part of a Federal-State-local and private sector partnership. The proposed action is an integral component of the EZ/EC initiative as identified in the Kentucky Highland Empowerment Zone's Strategic Plan. The proposed action will improve the area's water supply necessary for promoting economic development in the area.

The Jackson County EZ Community, Inc. and the JCWA have applied for financial assistance for the Jackson County Lake Project from the following: RUS; Appalachian Regional Commission; U.S. Department of Commerce, Economic Development Administration; Department of Housing and Urban Development; Kentucky Highlands Empowerment Zone; and Kentucky Tobacco Settlement money. In accordance with 40 CFR 1501.5, Lead Agencies, the RUS is the lead Agency for the EIS and the U.S. Forest Service is the Cooperating Agency.

The Draft EIS was published May 26, 2000 for a 45-day comment period. In addition, two public meetings were held in McKee, Kentucky on June 27, 2000 to solicit comments from the public and other interested parties.

Comments received from agencies and the public on the Draft EIS and revision of the water needs analysis led to the reassessment of various reservoir and non-reservoir alternatives for meeting Jackson County's projected water needs. As a result of this reassessment, two types of alternatives are now considered to be reasonable for meeting those needs. The action proposed by the Jackson County Empowerment Zone Community, Incorporated (EZ), Jackson County Fiscal Court, and the Jackson County Water Association (JCWA) consists of either the construction of a roller-compacted concrete (RCC) dam to create a reservoir within Jackson County, Kentucky, and the construction of a raw water transmission main from the proposed reservoir to the existing JCWA Treatment Plant, or the construction of a water transmission pipeline from an existing surface water resource in a neighboring county to Jackson County for the purposes of importing additional water. For the dam and reservoir alternatives, a 300-foot buffer zone surrounding the reservoir horizontally from the normal pool level has been proposed to protect the water quality of the reservoir by restricting development and certain land uses in this area. Along with the dam, a water intake structure and a pump house would be constructed to pump water out of the reservoir. Proposed recreational development around the reservoir may include a boat ramp, boat dock, public beach, hiking trails, picnic areas, and a primitive campground.

In the Draft EIS both the Rural Utilities Service and the Jackson County Empowerment Zone asserted that their preferred alternative for meeting the purpose and need of the proposed action was the War Fork and Steer Fork proposal. After comparing project costs, user rates impacts, future growth prospects of Jackson County and the surrounding area, and evaluating other relevant information with regard to the reasonable alternatives considered in the EIS, RUS has identified the War Fork and Steer Fork, 3.5 MGD reservoir as their preferred alternative. The Jackson County Empowerment Zone concurs.

The War Fork and Steer Fork dam site is located about 0.5 miles southwest of Turkey Foot in eastern Jackson County. The dam would be situated on War Fork, 0.75 miles north of the confluence with Steer Fork. The dam would be about 87 to 107 feet tall, 760 to 790 feet long, and 102 to 122 feet wide, creating a reservoir with an average yield of 3.5 mgd of raw water. At a normal pool elevation of 980 feet above mean sea level (MSL), the surface area of this reservoir would be about 116 acres. At a potential maximum flood elevation of 1,000 feet above MSL, the surface area of the reservoir would be approximately 162 acres. The total acreage for a reservoir at maximum flood level at this site, with a 300-foot buffer extending from normal pool level, would be about 337 acres of land. As much of this land is currently part of the Daniel Boone National Forest, land acquisition at this site would require a land exchange with the U.S. Forest Service. The War Fork and Steer Fork reservoir site has been identified as the Lead Agency's Preferred Alternative.

With this notice, RUS invites any affected Federal, State, and local Agencies and other interested persons to comment on the Final EIS.

Dated: May 24, 2001.
Blaine D. Stockton,
Acting Administrator, Rural Utilities Service.

[FR Doc. 01-13521 Filed 5-31-01; 8:45 am]

BILLING CODE 3410-15-P